DEPARTMENT OF ENERGY

Federal Energy Regulatory Commission

Combined Notice of Filings #1

Take notice that the Commission received the following exempt wholesale generator filings:

Docket Numbers: EG26-45-000.

Applicants: Niyol Energy Storage, LLC.

Description: Niyol Energy Storage, LLC submits Notice of Self-Certification of Exempt Wholesale Generator Status.

Filed Date: 11/13/25.

Accession Number: 20251113-5225.

Comment Date: 5 p.m. ET 12/4/25.

Docket Numbers: EG26-46-000.

Applicants: Cartwright Solar I LLC.

Description: Cartwright Solar I LLC submits Notice of Self-Certification of Exempt Wholesale Generator Status.

Filed Date: 11/14/25.

Accession Number: 20251114-5039.

Comment Date: 5 p.m. ET 12/5/25.

Docket Numbers: EG26-47-000.

Applicants: San Jacinto Cogeneration LLC.

Description: San Jacinto Cogeneration LLC submits Notice of Self-Certification of Exempt Wholesale Generator Status.

Filed Date: 11/14/25.

Accession Number: 20251114-5128.

Comment Date: 5 p.m. ET 12/5/25.

Take notice that the Commission received the following Complaints and Compliance filings in EL Dockets:

Docket Numbers: EL26-25-000.

Applicants: Stay Ready Solar 1 Inc., et al v. Entergy New Orleans, Inc.

Description: Complaint of Stay Ready Solar 1 Inc., et al. v. Entergy New Orleans, Inc.

Filed Date: 11/13/25.

Accession Number: 20251113-5216.

Comment Date: 5 p.m. ET 12/3/25.

Take notice that the Commission received the following electric rate filings:

Docket Numbers: ER22-1697-004.

Applicants: Southwest Power Pool, Inc.

Description: Compliance filing: Compliance Filing in Response to September 2025 Order to be effective 12/31/9998.

Filed Date: 11/14/25.

Accession Number: 20251114-5127.

Comment Date: 5 p.m. ET 12/5/25.

Docket Numbers: ER24-1434-004.

Applicants: Central Hudson Gas & Electric Corporation, New York Independent System Operator, Inc.

Description: Compliance filing: New York Independent System Operator, Inc. submits tariff filing per 35: Central Hudson Compliance: Rate Schedule 21 WDS Settlement Proposal to be effective 8/5/2024.

Filed Date: 11/14/25.

Accession Number: 20251114-5078.

Comment Date: 5 p.m. ET 12/5/25.

Docket Numbers: ER24-2255-003.

Applicants: NextEra Energy Transmission MidAtlantic, Inc., PJM Interconnection, L.L.C.

Description: Compliance filing: NextEra Energy Transmission MidAtlantic, Inc. submits tariff filing per 35: Amendment to NEET MA Compliance Filing in ER24-2255 to be effective 8/12/2024.

Filed Date: 11/14/25.

Accession Number: 20251114-5148.

Comment Date: 5 p.m. ET 12/5/25.

Docket Numbers: ER25-177-000.

Applicants: Southwest Power Pool, Inc.

Description: Report Filing: Supplemental Filing—Compensation Mechanism for System Support Resources to be effective N/A.

Filed Date: 11/12/25.

Accession Number: 20251112-5305.

Comment Date: 5 p.m. ET 12/3/25.

Docket Numbers: ER25-2896-002.

Applicants: Southwest Power Pool, Inc.

Description: Compliance filing: Compliance Filing—Name Change to GridLiance High Plains LLC to be effective 10/16/2018.

Filed Date: 11/14/25.

Accession Number: 20251114-5054.

Comment Date: 5 p.m. ET 12/5/25.

Docket Numbers: ER26-508-000.

Applicants: El Paso Electric Company.

Description: § 205(d) Rate Filing: Housekeeping Filing of Attachment H-1 to EPE's OATT to be effective 1/13/2026.

Filed Date: 11/13/25.

Accession Number: 20251113-5221.

Comment Date: 5 p.m. ET 12/4/25.

Docket Numbers: ER26-510-000.

Applicants: Midcontinent Independent System Operator, Inc.

Description: § 205(d) Rate Filing: 2025-11-14_Forward Reliability Assessment Commitment Update to be effective 1/30/2026.

Filed Date: 11/14/25.

Accession Number: 20251114-5010.

Comment Date: 5 p.m. ET 12/5/25.

Docket Numbers: ER26-511-000.

Applicants: ibV Energy Partners, LLC.

Description: Request for Prospective Waiver, et al. of ibV Energy Partners.

Filed Date: 11/13/25.

Accession Number: 20251113-5241.

Comment Date: 5 p.m. ET 12/4/25.

Docket Numbers: ER26-512-000.

Applicants: WSPP Inc.

Description: § 205(d) Rate Filing: List of Members Update 2025 to be effective 10/31/2025.

Filed Date: 11/14/25.

Accession Number: 20251114-5072.

Comment Date: 5 p.m. ET 12/5/25.

Docket Numbers: ER26-513-000.

Applicants: Midcontinent Independent System Operator, Inc.

Description: § 205(d) Rate Filing: 2025-11-14_Planning Resource Replacement and DR Deferral Notice to be effective 3/1/2026.

Filed Date: 11/14/25.

Accession Number: 20251114-5097.

Comment Date: 5 p.m. ET 12/5/25.

Docket Numbers: ER26-514-000.

Applicants: Scatter Wash Energy Storage LLC.

Description: § 205(d) Rate Filing: Normal filing 2025 to be effective 11/15/2025.

Filed Date: 11/14/25.

Accession Number: 20251114-5102.

Comment Date: 5 p.m. ET 12/5/25.

Docket Numbers: ER26-515-000.

Applicants: PJM Interconnection, L.L.C.

Description: § 205(d) Rate Filing: Ministerial Clean-Up Filing of Tariff, Definitions C—D to be effective 7/18/2016.

Filed Date: 11/14/25.

Accession Number: 20251114-5124.

Comment Date: 5 p.m. ET 12/5/25.

Docket Numbers: ER26-516-000.

Applicants: Southern California Edison Company.

Description: § 205(d) Rate Filing: GIA/SA1405, 2nd Amend DSA/SA430, Mogul Energy (WDT888QFC) + DSA eTariff Removal to be effective 11/15/2025.

Filed Date: 11/14/25.

Accession Number: 20251114-5132.

Comment Date: 5 p.m. ET 12/5/25.

Docket Numbers: ER26-517-000.

Applicants: Canal Marketing LLC.

Description: § 205(d) Rate Filing: Revision to IROL-CIP Rate Schedule 17 (4-2024 through 3-2025) to be effective 1/13/2026.

Filed Date: 11/14/25.

Accession Number: 20251114-5152.

Comment Date: 5 p.m. ET 12/5/25.

Docket Numbers: ER26-518-000.

Applicants: Southern California Edison Company.

Description: § 205(d) Rate Filing: Letter Agreement, Rosa Storage Project, TOT1147, SA #372 to be effective 11/15/2025.

Filed Date: 11/14/25.

Accession Number: 20251114-5155.

Comment Date: 5 p.m. ET 12/5/25.

Docket Numbers: ER26-520-000.

Applicants: Pacific Gas and Electric Company.

Description: § 205(d) Rate Filing: TO SA 275: Revisions to California Department of Water Resources (CDWR) to be effective 1/14/2026.

Filed Date: 11/14/25.

Accession Number: 20251114-5171.

Comment Date: 5 p.m. ET 12/5/25.

Docket Numbers: ER26-521-000.

Applicants: Goat Rock Solar, LLC.

Description: § 205(d) Rate Filing: Goat Rock Solar MBR Application to be effective 1/14/2026.

Filed Date: 11/14/25.

Accession Number: 20251114-5174.

Comment Date: 5 p.m. ET 12/5/25.

Docket Numbers: ER26-522-000.

Applicants: Hester Hill Solar, LLC.

Description: § 205(d) Rate Filing: Hester Hill Solar MBR Application to be effective 1/14/2026.

Filed Date: 11/14/25.

Accession Number: 20251114-5175.

Comment Date: 5 p.m. ET 12/5/25.

Docket Numbers: ER26-523-000.

Applicants: Pinewood Solar, LLC.

Description: § 205(d) Rate Filing: Pinewood Solar MBR Application to be effective 1/14/2026.

Filed Date: 11/14/25.

Accession Number: 20251114-5179.

Comment Date: 5 p.m. ET 12/5/25.

Docket Numbers: ER26-524-000.

Applicants: PJM Interconnection, L.L.C.

Description: § 205(d) Rate Filing: Amendment to ISA, SA No. 6438; Queue No. AE1-229 to be effective 1/14/2026.

Filed Date: 11/14/25.

Accession Number: 20251114-5182.

Comment Date: 5 p.m. ET 12/5/25.

Docket Numbers: ER26-525-000.

Applicants: Southwest Atlanta Energy Storage, LLC.

Description: § 205(d) Rate Filing: Southwest Atlanta Energy Storage MBR Application to be effective 1/14/2026.

Filed Date: 11/14/25.

Accession Number: 20251114-5184

Comment Date: 5 p.m. ET 12/5/25.

Docket Numbers: ER26-526-000.

Applicants: Lucky Corridor, LLC.

Description: § 205(d) Rate Filing: Filing of Tariff Clean Up to be effective 6/18/2025.

Filed Date: 11/14/25.

Accession Number: 20251114-5195.

Comment Date: 5 p.m. ET 12/5/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: November 14, 2025.
Carlos D. Clay,
Deputy Secretary.

[FR Doc. 2025-20301 Filed 11-18-25; 8:45 am]

BILLING CODE 6717-01-P